DEPARTMENT OF COMMERCE

International Trade Administration

[C-489-843]

Prestressed Concrete Steel Wire Strand From the Republic of Turkey: Final Results of Countervailing Duty Administrative Review; 2020-2021

AGENCY: Enforcement and Compliance, International Trade Administration, Department of Commerce.

SUMMARY: The U.S. Department of Commerce (Commerce) determines that Celik Halat ve Tel Sanayi A.S. (Celik Halat), a producer/exporter of prestressed concrete steel wire strand (PC strand) from the Republic of Turkey (Turkey) and sole respondent for this administrative review, received countervailable subsidies during the period of review (POR), September 21, 2020, through December 31, 2021.

DATES: Applicable January 20, 2023.

FOR FURTHER INFORMATION CONTACT: Christopher Hargett, AD/CVD Operations, Office II, Enforcement and Compliance, International Trade Administration, Department of Commerce, 1401 Constitution Avenue NW, Washington, DC 20230; telephone: (202) 482-4161.

SUPPLEMENTARY INFORMATION:

Background

On November 4, 2022, Commerce published the Preliminary Results and invited interested parties to comment.¹ No interested party submitted comments on the Preliminary Results. Accordingly, the final results remain unchanged from the Preliminary Results. Commerce conducted this administrative review in accordance with section 751(a)(1)(A) of the Tariff Act of 1930, as amended (the Act).

¹ See Prestressed Concrete Steel Wire Strand from the Republic of Turkey: Preliminary Results of Countervailing Duty Administrative Review, 87 FR 66650 (November 4, 2022) (Preliminary Results), and accompanying Preliminary Decision Memorandum.

Scope of the Order ²

² See Prestressed Concrete Steel Wire Strand from the Republic of Turkey: Countervailing Duty Order, 86 FR 7990 (February 3, 2021) (Order).

The merchandise covered by this Order is PC strand, produced from wire of non-stainless, non-galvanized steel, which is suitable for use in prestressed concrete (both pretensioned and post-tensioned) applications. For a complete description of the scope of the Order, see the Preliminary Results.

Final Results of Review

Commerce determines the following net countervailable subsidy rate exists for the respondent for the POR,³ September 21, 2020, through December 31, 2021:

³ Commerce inadvertently listed the beginning of the POR as September 9, 2020, instead of September 21, 2020, in the Preliminary Results. The correct POR is September 21, 2020, through December 31, 2021.

Company | Subsidy rate (percent ad valorem)
Celik Halat ve Tel Sanayi A.S.⁴ | 96.33

Disclosure

⁴ Commerce found the following companies to be cross-owned with Celik Halat: Dogan Sirketler Grubu Holding A.S.; and Adilbey Holding A.S.

Because Commerce received no comments on the Preliminary Results, we have not modified our analysis and no decision memorandum accompanies this Federal Register notice. We are adopting the Preliminary Results as the final results of this review. Consequently, there are no new calculations to disclose in accordance with 19 CFR 351.224(b) for these final results.

Assessment Rates

Consistent with section 751(a)(2)(C) of the Act and 19 CFR 351.212(b)(2), upon completion of the administrative review, Commerce shall determine, and U.S. Customs and Border Protection (CBP) shall assess, countervailing duties on all appropriate entries covered by this review. We intend to issue instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(2)(C) of the Act, Commerce also intends to instruct CBP to collect cash deposits of estimated countervailing duties in the amount shown for the company listed above with regard to shipments of subject merchandise entered, or withdrawn from warehouse, for consumption on or after the date of publication of the final results of this review. For all non-reviewed firms, Commerce will instruct CBP to continue to collect cash deposits at the all-others rate or the most recent company-specific rate applicable to the company, as appropriate. These cash deposit requirements, when imposed, shall remain in effect until further notice.

Administrative Protective Order

This notice also serves as a reminder to parties subject to an administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing this notice in accordance with sections 751(a)(1) and 777(i)(1) of the Act, and 19 CFR 351.221(b)(5).

Dated: January 12, 2023.
Lisa W. Wang,
Assistant Secretary for Enforcement and Compliance.

[FR Doc. 2023-01085 Filed 1-19-23; 8:45 am]

BILLING CODE 3510-DS-P